ENVIRONMENTAL PROTECTION AGENCY

[OAR-2002-0092; FRL-7466-1]

Agency Information Collection Activities; Submission of EPA ICR No. 1772.03, OMB Control No. 2060-0347 to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Activities Associated with EPA's Energy Star Program in the Commercial and Industrial Sectors. This ICR describes the nature of the information collection and its estimated burden and cost.

DATES: Additional comments may be submitted on or before April 14, 2003.

ADDRESSES: Follow the detailed instructions in SUPPLEMENTARY INFORMATION.

FOR FURTHER INFORMATION CONTACT: Mary Susan Bailey, Climate Protection Partnerships Division, Mailcode: 6202J, Environmental Protection Agency, 1200 Pennsylvania Ave., NW., Washington, DC 20460; telephone number: (202) 564-0189; fax number: (202) 565-2083; e-mail address: bailey.marysusan@epa.gov.

SUPPLEMENTARY INFORMATION: EPA has submitted the following ICR to OMB for review and approval according to the procedures prescribed in 5 CFR 1320.12. On October 29, 2002 (67 FR 65979), EPA sought comments on this ICR pursuant to 5 CFR 1320.8(d). EPA received no comments.

EPA has established a public docket for this ICR under Docket ID No. OAR-2002-0092, which is available for public viewing at the Air and Radiation Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to a-and-r-docket@epa.gov, or by mail to: EPA Docket Center, Environmental Protection Agency, Mailcode: 6102T, 1200 Pennsylvania Ave., NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Activities Associated with EPA's Energy Star Program in the Commercial and Industrial Sectors, (OMB Control No. 2060-0347, EPA ICR No. 1772.03). This is a request to renew an existing approved collection that is scheduled to expire on April 30, 2003. Under OMB regulations, the Agency may continue to conduct or sponsor the collection of information while this submission is pending at OMB.

Abstract: Energy Star is a voluntary program to encourage organizations to prevent pollution rather than controlling it after its creation. The Program focuses on reducing utility-generated emissions by reducing the demand for energy. In 1991, EPA launched the Green Lights program to encourage corporations, State and local governments, colleges and universities, and other organizations to adopt energy-efficient lighting as a profitable means of preventing pollution and improving lighting quality. Since then, EPA has rolled Green Lights into Energy Star and expanded Energy Star to encompass organization-wide energy performance improvement, such as building technology upgrades, product purchasing initiatives, and employee training. At the same time, EPA has streamlined the reporting requirements of Energy Star and focused on providing incentives for improvements (e.g., Energy Star Awards Program). EPA also makes tools and other resources available over the Web to help the public overcome the barriers to evaluating their energy performance and investing in profitable improvements.

To join Energy Star, organizations are asked to complete a Partnership Letter or Agreement that establishes their commitment to energy efficiency. Partners agree to undertake efforts such as measuring, tracking, and benchmarking their organization's energy performance by using tools such as those offered by Energy Star; developing and implementing a plan to improve energy performance in their facilities and operations by adopting a strategy provided by Energy Star; and educating staff and the public about their Partnership with Energy Star, and highlighting achievements with the Energy Star Label, where available.

Partners also may be asked to periodically submit information to EPA as needed to assist in program implementation. For example, EPA compiles the Energy Service and Product Provider Directory to provide the public with easy access to energy efficiency products and services. Businesses wishing to appear in this directory are asked to submit a completed form that details their products and services.

Partnership in Energy Star is voluntary and can be terminated by Partners or EPA at any time. EPA does not expect organizations to join the program unless they expect participation to be cost-effective and otherwise beneficial for them.

In addition, Partners and any other interested party can help EPA promote energy-efficient technologies by evaluating the efficiency of their buildings by benchmarking individual buildings by using EPA's on-line benchmarking tool, Portfolio Manager, and apply for Energy Star Labels if their performance ranks in the top 25 percent. If they can demonstrate that an individual building meets the Energy Star criteria, they will receive an Energy Star plaque that they can display on the building. EPA does not expect to deem any information collected under Energy Star to be Confidential Business Information (CBI).

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information will vary depending on the type of participant, the specific collection activity, and other factors. The annual burden for joining Energy Star and conducting related activities is estimated to range from about 2 to 8 hours per respondent. This includes time for preparing and submitting the Partnership Letter or Agreement and other information as requested. The burden for applying for an Energy Star Label is estimated to range from about 5.5 to 10.5 hours per respondent. This includes time for reading the instructions of the benchmarking tool if needed, gathering and entering information on building characteristics and energy use into the tool, printing a score report, and preparing/submitting the Energy Star Label application materials to EPA. The burden for applying for an Energy Star Award is estimated to range from 4 to 26.5 hours per respondent. This includes time for preparing and submitting the awards application materials to EPA.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Participants in EPA's Energy Star Program in the Commercial and Industrial Sectors.

Estimated Number of Respondents: 5,000.

Frequency of Response: One-time, annually, and/or periodically, depending on type of respondent and collection.

Estimated Total Annual Hour Burden: 83,343 hours.

Estimated Total Annual Cost: $6,594,941, including $1,540,530 in annualized capital or O&M costs.

Changes in the Estimates: There is a decrease of 134,371 hours in the total estimated burden currently identified in the OMB Inventory of Approved ICR Burdens. This decrease is a result of EPA's streamlining of Energy Star's information collections since preparing ICR 1772.02. EPA now places a greater emphasis on providing voluntary incentives for improvements and has simplified its collections. For example, EPA no longer requires Partners to submit the Annual Facility Report (AFR), which took Partners over 198,000 hours to prepare/submit annually. EPA also simplified other paperwork related to their Partnership. Organizations had previously submitted a Memorandum of Understanding (MOU) to join the program, which took about five hours to complete. Partners now prepare a more streamlined Partnership Letter or Agreement, which takes between 2 and 2.5 hours. EPA estimates that its streamlining has resulted in 203,743 hours in burden reduction annually.

This burden reduction is partially offset, however, because EPA also expects to see greater benchmarking activity over the coming years. EPA developed a Web-based tool, Portfolio Manager, to help organizations benchmark the energy use in their buildings. ICR 1772.02 estimated about 2,300 benchmarkings per year, whereas ICR 1772.03 estimates more than 23,000 benchmarkings per year. This expected growth reflects EPA's view that an increased number of organizations will find Portfolio Manager beneficial and use it to improve their energy performance. EPA also expects to conduct activities to expand and refine Portfolio Manager (e.g., information collection and beta testing to expand Portfolio Manager to include new space use types). EPA expects to see an annual burden increase in benchmarking and related activities of 69,372 hours.

In summary, EPA estimates that the burden reduction of 203,743 hours explained above will be partially offset by the burden increase of 69,372 hours resulting from increased benchmarking and related activities. The result is a net burden reduction of 134,371 hours annually.

Dated: February 25, 2003.
Oscar Morales,
Director, Collection Strategies Division.

[FR Doc. 03-6108 Filed 3-12-03; 8:45 am]

BILLING CODE 6560-50-P